DEPARTMENT OF THE INTERIOR

National Park Service

National Register of Historic Places; Notification of Pending Nominations and Related Actions

Nominations for the following properties being considered for listing or related actions in the National Register were received by the National Park Service before December 5, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by January 13, 2010.

J. Paul Loether,
Chief, National Register of Historic Places/National Historic Landmarks Program.

California

Los Angeles County

Pegfair Estates Historic District, (Cultural Resources of the Recent Past, City of Pasadena) 1525-1645 Pegfair Estates Dr.; 1335-1345 Carnarvon Dr., Pasadena, 09001223

Idaho

Bingham County

Aviator's Cave, Address Restricted, Arco, 09001224

Illinois

Cook County

Berger Park, (Chicago Park District MPS) 6205-47 N. Sheridan Rd., Chicago, 09001225

Minnesota

Blue Earth County

Dodd Ford Bridge, Co. Rd. 147 over Blue Earth River Shelby, 09001070

Missouri

St. Louis Independent city

Federal Cold Storage Company Building, 1800-28 N. Broadway, St. Louis, 09001226

New York

Dutchess County

Trinity Methodist Church, 8 Mattie Cooper Square, Beacon, 09001227

Herkimer County

Masonic Temple—Newport Lodge No. 445 F. & A.M., 7408 NY 28, Newport, 09001228

Onondaga County

Dock Hill Road Extension Stone Arch Bridge, Dock Hill Rd. Extension, Cornwall-on-Hudson, 09001230

Rockland County

Balmville Cemetery, Albany Post Rd., Balmville, 09001229

Rhode Island

Providence County

Central Diner, 777 Elmwood Ave., Providence, 09001231

Virginia

Alexandria Independent city Uptown-Parker-Gray Historic District, Roughly Cameron St. N. to 1st St. and N. Columbus St. W. to the following sts forming W. line, Buchanan, N. West, Alexandria, 09001232

Washington

King County

University of Washington Faculty Center, 4020 E. Stevens Way, Univ. of Washington, Seattle, 09001233

Klickitat County

Homesteads of the Dalles Mountain Ranch Historic District, 340 Dalles Mountain Rd., beginning approx. 2.8 mi. N. of WA 14 jct., Dallesport, 09001234

Pierce County

Blue Mouse Theatre, 2611 N. Proctor St., Tacoma, 09001235

Request for REMOVAL has been made for the following resources:

Colorado

Denver County

Wheeler House, 1917 W. 32nd Ave., Denver, 00000105

Fremont County

Fourth Street Bridge, 4th St., Canon City, 85000207

[FR Doc. E9-30733 Filed 12-28-09; 8:45 am]

BILLING CODE P